DEPARTMENT OF COMMERCE

National Oceanic and Atmospheric Administration

RIN 0648-XC649

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a meeting of the Coastal Migratory Pelagics Advisory Panel.

DATES: The meeting will convene at 8:30 a.m. and conclude by 4 p.m. on Wednesday, May 15, 2013.

ADDRESSES: The meeting will be held at the Gulf of Mexico Fishery Management Council, 2203 N. Lois Avenue, Suite 1100, Tampa, FL 33607; telephone: (813) 348-1630.

FOR FURTHER INFORMATION CONTACT: Ryan Rindone; Gulf of Mexico Fishery Management Council; telephone: (813) 348-1630 x241.

SUPPLEMENTARY INFORMATION: The Coastal Migratory Pelagics (CMP) Advisory Panel will meet to discuss CMP Amendments 19 and 20. Amendment 19 addressed sale and permit provisions for Gulf of Mexico Spanish and king mackerel. Amendment 20 addresses season length, transit provisions, allocation, and framework procedures for coastal migratory pelagics. The Panel will provide input to the Gulf Council on preferred actions and alternatives for both amendments, and will suggest which actions and alternatives need not be considered further. These recommendations will be provided to the Gulf Council at their June 2013 meeting in Pensacola, FL.

Copies of the agenda and other related materials can be obtained by calling (813) 348-1630.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aids should be directed to Kathy Pereira at the Council (see ADDRESSES) at least 5 working days prior to the meeting.

Dated: April 25, 2013.
Tracey L. Thompson,
Acting Deputy Director, Office of Sustainable Fisheries, National Marine Fisheries Service.

[FR Doc. 2013-10092 Filed 4-29-13; 8:45 am]

BILLING CODE 3510-22-P